DEPARTMENT OF COMMERCE

National Oceanic and Atmospheric Administration

[RTID 0648-XB230]

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that Southern Atlantic gag is now subject to overfishing and is now overfished; Southern Atlantic snowy grouper and Gulf of Mexico greater amberjack are now subject to overfishing and are still overfished; Klamath River fall-run Chinook salmon, Queets coho salmon, Strait of Juan de Fuca coho salmon, Northwestern Atlantic Coast ocean pout, Gulf of Maine/Georges Bank Atlantic wolffish, and Pribilof Island blue king crab are still overfished; Southern Atlantic red snapper is still subject to overfishing and overfished; and Hood Canal coho salmon is now approaching an overfished condition. NMFS, on behalf of the Secretary, notifies the appropriate regional fishery management council (Council) whenever it determines that a stock or stock complex is subject to overfishing, overfished, or approaching an overfished condition.

FOR FURTHER INFORMATION CONTACT: Kathryn Frens, (301)-427-8523.

SUPPLEMENTARY INFORMATION: Pursuant to section 304(e)(2) of the Magnuson-Stevens Fishery Conservation and Management Act (Magnuson-Stevens Act), 16 U.S.C. 1854(e)(2), NMFS, on behalf of the Secretary, must notify Councils, and publish a notice in the Federal Register, whenever it determines that a stock or stock complex is subject to overfishing, overfished, or approaching an overfished condition.

NMFS has determined that Gulf of Mexico greater amberjack is now subject to overfishing and is still overfished. This determination is based on the most recent assessment, completed in 2021 and using data through 2018, which indicates that this stock is subject to overfishing because the fishing mortality rate was above the threshold, and is still overfished because the biomass is below the threshold. NMFS has notified the Gulf of Mexico Fishery Management Council of the requirement to end overfishing and to rebuild this stock.

NMFS has determined that Southern Atlantic gag is now both subject to overfishing and overfished, that Southern Atlantic snowy grouper is now subject to overfishing and is still overfished, and that Southern Atlantic red snapper is still both subject to overfishing and overfished. The determinations for gag and red snapper are based on the most recent assessments, completed in 2021 using data through 2019, which indicate that these stocks are subject to overfishing because the fishing mortality rates are above the respective thresholds and the biomasses are below the respective thresholds. The determination for snowy grouper is based on the most recent update assessment, completed in 2021 using data through 2018, which indicates that the stock is subject to overfishing because the fishing mortality rate is above the threshold, and is still overfished because the biomass is below the threshold. NMFS has notified the South Atlantic Fishery Management Council of the requirement to end overfishing and to rebuild these stocks.

NMFS has determined that Northwestern Atlantic Coast ocean pout and Gulf of Maine/Georges Bank Atlantic wolffish are still overfished. These determinations are based on the most recent assessments, completed in 2020 using data through 2019, which indicate that the stocks are overfished because their biomasses are below the respective thresholds. NMFS continues to work with the New England Fishery Management Council to rebuild these stocks.

NMFS has determined that Klamath River fall-run Chinook salmon, Queets coho salmon, and Strait of Juan de Fuca coho salmon are still overfished, and that Hood Canal coho salmon is now approaching an overfished condition. These determinations are based on the most recent assessments, completed in 2021 and using data from 2018-2020 for Klamath River fall-run Chinook salmon, data from 2017-2019 for Queets and Juan de Fuca coho salmon, and data from 2018-2019 and 2021 for Hood Canal coho salmon. The determination of overfished for the first three stocks is based on the three-year geometric mean of the annual spawning escapement for each stock falling below its respective overfished threshold. The determination of approaching an overfished condition for Hood Canal coho salmon is based on the three-year geometric mean of the two most recent postseason estimates of spawning escapement (2018-2019), and the current preseason forecast of spawning escapement (2021), falling below the threshold. Of these four salmon stocks, only the Chinook stock is domestically managed. The Council has limited ability to control fisheries for the three internationally-managed coho stocks in waters outside its jurisdiction. NMFS continues to work with the Pacific Council to rebuild these stocks, and has notified the Pacific Council of the requirement to prevent the Hood Canal coho salmon stock from becoming overfished.

NMFS has determined that Pribilof Island blue king crab is still overfished. This determination is based on the most recent assessment, completed in 2021 using data through 2021, which indicates that the stock is overfished because the biomass estimate remains below its threshold. NMFS continues to work with the North Pacific Fishery Management Council to rebuild this stock.

Dated: July 27, 2021.
Jennifer M. Wallace,
Acting Director, Office of Sustainable Fisheries, National Marine Fisheries Service.

[FR Doc. 2021-16293 Filed 7-29-21; 8:45 am]

BILLING CODE 3510-22-P